DEPARTMENT OF COMMERCE

Office of the Secretary

Proposed Information Collection; Comment Request; Applicant for Funding Assistance

AGENCY: Office of the Secretary, Chief Financial Officer and Assistant Secretary for Administration.

ACTION: Notice.

SUMMARY: The Department of Commerce (DOC), as part of its continuing effort to reduce paperwork and respondent burden, invites the general public and other Federal agencies to comment on the continuing and proposed information collection, as required by the Paperwork Reduction Act of 1995.

DATES: Written comments must be submitted on or before February 12, 2010.

ADDRESSES: Direct all written comments to Diana Hynek, Departmental Paperwork Clearance Officer, Department of Commerce, Room 7845, 1401 Constitution Avenue, NW., Washington, DC 20230 (or via Internet at dHynek@doc.gov).

FOR FURTHER INFORMATION CONTACT: Requests for additional information or copies of the information collection instrument and instructions should be directed to Grants Management Division, Office of Acquisition Management, Gary Johnson, Grants Director, (202) 482-1679 or via e-mail Gjohnso3@doc.gov.

SUPPLEMENTARY INFORMATION:

I. Abstract

The sponsorship of this information collection was previously maintained by the Department of Commerce's (DOC) Office of Inspector General. This sponsorship is presently in the DOC Office of Acquisition Management, Grants Management Division.

The DOC, through its bureaus, the Economic Development Administration (EDA), Minority Business Development Agency (MBDA), International Trade Administration (ITA), National Oceanic and Atmospheric Administration (NOAA), National Technical Information Service (NTIS), National Telecommunications and Information Agency (NTIA), and other programs, assists reliable, capable individuals and firms in pursuit of various business development, business enterprise development and other forms of economic development. The CD-346 is used to assist programs and grants administration officials in determining the fiscal responsibility and financial integrity of principal officers and employees of organizations, firms, and other entities which are recipients or beneficiaries of grants, cooperative agreements, loans, loan guarantees or other forms of federal financial assistance.

The CD-346 is also completed, when required, by grant recipients. Through the name check process, background information is collected on key individuals associated with proposed financial assistance (grants, cooperative agreements, loans and loan guarantees) recipient organizations. The name check identifies those principals affiliated with proposed recipient organizations who have been convicted of, or are presently facing, criminal charges or are under investigation for fraud, theft, perjury or other matters which have significant impact on questions of management honesty or financial integrity.

II. Method of Collection

The information is submitted on paper forms.

III. Data

OMB Control Number: 0605-0001.

Form Number: CD-346.

Type of Review: Regular submission.

Affected Public: Business or other for-profit organizations; not-for-profit institutions;

Estimated Number of Respondents: 2,500.

Estimated Time per Response: 15 minutes.

Estimated Total Annual Respondent Burden Hours: 625.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology. Comments submitted in response to this notice will be summarized and/or included in the request for OMB approval of this information collection; they also will become a matter of public record.

Dated: December 9, 2009.
Gwellnar Banks,
Management Analyst, Office of the Chief Information Officer.

[FR Doc. E9-29696 Filed 12-11-09; 8:45 am]

BILLING CODE 3510-03-P